DEPARTMENT OF COMMERCE

International Trade Administration

University of California, Los Alamos National Laboratory et al.; Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 04-018. Applicant: University of California, Los Alamos National Laboratory, Los Alamos, NM. Instrument: Hydraulic Press for Nuclear Fuel. Manufacturer: Osterwalder AG, Switzerland. Intended Use: See notice at 69 FR 67320, November 17, 2004. Reasons: The foreign instrument provides both: (1) A 20-30 ton CNC-controlled hydraulic press which meets the specifications of ram control to ±0.01 mm and load control to ±1% and (2) extensive experience (25 years) in supplying hydraulic presses for the nuclear fuels industry, meeting it's very stringent quality standards. Advice received from: a university nuclear engineering laboratory, December 6, 2004.

Docket Number: 04-020. Applicant: Johns Hopkins University, Baltimore, MD. Instrument: Dual-Beam Focused Ion Beam System, Model Number NOVA 600 NanoLab (FP 2067/31). Manufacturer: FEI Company, The Netherlands. Intended Use: See notice at 69 FR 67320, November 17, 2004. Reasons: The foreign instrument provides the ability to cut lines with the narrowest width, circles with the smallest radius, the accuracy for programmed milling to create arrays of small entities, and to create a single device of the smallest dimensions for research on spintronic devices, cantilevers, stencil mask fabrication and TEM sample preparation. Advice received from: Sandia National Laboratories, February 18, 2004 (comparable case) and from a domestic manufacturer of similar equipment.

We know of no other instrument or apparatus being manufactured in the United States which is of equivalent scientific value to any of the foreign instruments.

Gerald A. Zerdy,
Program Manager, Statutory Import Programs Staff.

[FR Doc. E4-3644 Filed 12-13-04; 8:45 am]

BILLING CODE 3510-DS-P